DEPARTMENT OF COMMERCE

International Trade Administration

North American Free-Trade Agreement (NAFTA), Article 1904 NAFTA Panel Reviews; Decision of the Committee

AGENCY: NAFTA Secretariat, United States Section, International Trade Administration, Department of Commerce.

ACTION: Notice of corrected decision of Extraordinary Challenge Committee.

SUMMARY: On October 7, 2004 the Extraordinary Challenge Committee (ECC) issued its decision in the matter of Pure Magnesium from Canada, Secretariat File No. ECC-2003-1904-01USA. On November 12, 2004, the Extraordinary Challenge Committee issued a correction to their decision. The corrections do not alter the substance of the opinion.

FOR FURTHER INFORMATION CONTACT: Caratina L. Alston, United States Secretary, NAFTA Secretariat, Suite 2061, 14th and Constitution Avenue, Washington, DC 20230, (202) 482-5438.

Committee Decision: The Committee concluded that the panel manifestly exceeded its powers by failing to apply the correct standard of review; such action materially affected the Panel's decision, but; that the Panel's action did not threaten the integrity of the binational panel review process.

Accordingly the challenge was dismissed and by virtue of section 3 of NAFTA Annex 1904.13 the challenged panel decision stands affirmed. The Committee, however, discovered some minor errors in the decision and has provided a corrected version. Copies of the corrected decision are available from the NAFTA Secretariat.

Dated: December 7, 2004.
Caratina L. Alston,
United States Secretary, NAFTA Secretariat.

[FR Doc. E4-3673 Filed 12-14-04; 8:45 am]

BILLING CODE 3510-GT-P